NUCLEAR REGULATORY COMMISSION

[NRC-2014-0173]

Integrated Safety Analysis Standards for Acute Uranium Exposure of Workers

AGENCY: Nuclear Regulatory Commission.

ACTION: Interim staff guidance; issuance.

SUMMARY: The U.S. Nuclear Regulatory Commission (NRC) is issuing Interim Staff Guidance (ISG), FCSE ISG-14, “Acute Uranium Standards for Workers,” dated June 15, 2015. The ISG provides guidance to the NRC staff when reviewing licensee-proposed standards in the Integrated Safety Analysis Summary for determining worker uranium exposures that would result in high or intermediate consequences consistent with the general definition of these events in NRC regulations.

DATES: The ISG is available September 25, 2015.

ADDRESSES: Please refer to Docket ID NRC-2014-0173 when contacting the NRC about the availability of information regarding this document. You may obtain publicly-available information related to this document using any of the following methods:

• Federal Rulemaking Web site: Go to http://www.regulations.gov and search for Docket ID NRC-2014-0173. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: James Hammelman, Office of Nuclear Material Safety and Safeguards, U.S. Nuclear Regulatory Commission, Washington, DC 20555-0001; telephone: 301-415-7526; email: James.Hammelman@nrc.gov.

SUPPLEMENTARY INFORMATION:

I. Discussion

The purpose of this ISG (ADAMS Accession No. ML15147A682) is to identify acute uranium intake values that will be acceptable to the staff for classifying acute worker exposure events as high or intermediate consequence events consistent with the general definition of the terms presented in § 70.61 of Title 10 of the Code of Federal Regulations (10 CFR). This guidance has been approved by the Division of Fuel Cycle Safety, Safeguards, and Environmental Review management (ADAMS Accession No. ML15147A680) and is available on the NRC's Web site as well as in ADAMS.

In a Federal Register notice published on September 17, 2014 (79 FR 55834), the NRC requested public comments on the draft ISG. In response, Janet R. Schlueter on behalf of the Nuclear Energy Institute (NEI) provided comments by letter dated November 12, 2014 (ADAMS Accession No. ML14322A698). The NRC also received an anonymous comment (ADAMS Accession No. ML14345A747). The final ISG includes clarifications in response to these comments. The specific changes made in the final ISG were described in a letter to the Division of Fuel Cycle Safety, Safeguards, and Environmental Review management (ADAMS Accession No. ML15147A683)

II. Backfitting

The NRC is issuing interim guidance for the NRC staff regarding acute uranium intake values for classifying acute worker exposure events. Issuance of the ISG does not constitute backfitting as defined in 10 CFR 70.76 (the Backfit Rule). The NRC's position is based upon the following considerations.

1. The ISG positions do not constitute backfitting, inasmuch as the ISG is internal guidance to NRC staff.

The ISG provides interim guidance to the staff on how to review an application for NRC regulatory approval in the form of licensing. Changes in internal staff guidance are not matters for which applicants or licensees are protected under 10 CFR 70.76.

2. The Backfit Rule does not protect current or future applicants.

Applicants and potential applicants are not, with certain exceptions, protected by the Backfit Rule. This is because the Backfit Rule was not intended to apply to every NRC action that substantially changes the expectations of current and future applicants.

III. Congressional Review Act

This action is a rule as defined in the Congressional Review Act (5 U.S.C. 801-808). However, the Office of Management and Budget has not found it to be a major rule as defined in the Congressional Review Act.

Dated at Rockville, Maryland, this 17th day of September, 2015.
For the Nuclear Regulatory Commission.
Robert Johnson,
Branch Chief, Fuel Manufacturing Branch Division of Fuel Cycle Safety, Safeguards, and Environmental Review Office of Nuclear Material Safety and Safeguards.

[FR Doc. 2015-24315 Filed 9-24-15; 8:45 am]

BILLING CODE 7590-01-P